DEPARTMENT OF STATE

[Public Notice: 6104]

Presidential Determination Concerning Waiver of Section 1083 of the National Defense Authorization Act for Fiscal Year 2008 With Respect to Iraq

SUMMARY: On January 28, 2008, the President issued Presidential Determination 2008-9. Presidential Determination 2008-9 waives the application of all provisions of section 1083 of the National Defense Authorization Act for Fiscal Year 2008 (NDAA) with respect to Iraq. Section 1083 amends the Foreign Sovereign Immunities Act, which establishes a framework for lawsuits against foreign countries and their agencies and instrumentalities under U.S. law. Pursuant to section 1083(d)(1) the President may waive any provision of this section with respect to Iraq, insofar as that provision may, in the President's determination, affect Iraq or any agency or instrumentality thereof, if the President determines that the waiver is in the national security interest of the United States; the waiver will promote the reconstruction of, the consolidation of democracy in, and the relations of the United States with, Iraq; and Iraq continues to be a reliable ally of the United States and partner in combating acts of international terrorism. Pursuant to section 1083(d)(3), a waiver by the President under section 1083(d)(1) shall cease to be effective 30 days after it is made unless the President has notified Congress in writing of the basis for the waiver as determined by the President under section 1083(d)(1). Presidential Determination 2008-9 directs the Department of State to notify Congress of the President's determination and waiver and the accompanying memorandum of justification. On February 4, 2008, the Department of State transmitted to Congress Presidential Determination 2008-9 and the accompanying memorandum of justification.

SUPPLEMENTARY INFORMATION: The text of Presidential Determination 2008-09 and accompanying Memorandum of Justification, as transmitted to Congress on February 4, 2008, can be found at 73 FR 6571 (February 5, 2008).

Dated: February 14, 2008.
Richard Schmierer,
Acting Deputy Assistant Secretary, Department of State.

[FR Doc. E8-3248 Filed 2-20-08; 8:45 am]

BILLING CODE 4710-31-P